DEPARTMENT OF COMMERCE

National Oceanic and Atmospheric Administration

RIN 0648-XB057

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will convene Scoping Meetings on a proposed generic amendment addressing dealer permits and electronic logbook reporting, as well as two amendments to the Coastal Migratory Pelagics Fishery Management Plan (CMP FMP): one that addresses sale of bag limit caught fish and permit requirements and the other that addresses boundaries and transit provisions.

DATES: The scoping meetings will be held from March 19, 2012 through April 3, 2012 at nine locations throughout the Gulf of Mexico. The scoping meetings will begin at 6 p.m. and will conclude no later than 9 p.m. For specific dates, see SUPPLEMENTARY INFORMATION.

ADDRESSES: The scoping meetings will be held in the following locations: Destin, Key West and Fort Myers, FL; Kenner and Grand Isle, LA; Biloxi, MS; Mobile, AL; Galveston and Port Aransas, TX.

Council address: Gulf of Mexico Fishery Management Council, 2203 N. Lois Avenue, Suite 1100, Tampa, FL 33607.

FOR FURTHER INFORMATION CONTACT: Dr. Richard Leard, Deputy Executive Director/Senior Fishery Biologist; Gulf of Mexico Fishery Management Council; telephone: (813) 348-1630.

SUPPLEMENTARY INFORMATION: The Gulf of Mexico Fishery Management Council has scheduled Scoping Meetings on a proposed generic amendment that would consider changes to the current requirements for dealer permits and the potential for electronic reporting requirements. A potential Amendment 19 to the CMP FMP would consider limits or prohibition on sale of bag limit caught king and Spanish mackerel, as well as cobia. It also considers potential changes to regulations regarding maintaining and renewing commercial fishing permits and adding a commercial permit requirement to sell cobia. A potential Amendment 20 to the CMP FMP would consider potential changes to the existing commercial boundaries and zones along with their associated quotas and trip limits along with possible allowance for transit through closed fishing zones.

The nine scoping meetings will begin at 6 p.m. and conclude at the end of public testimony or no later than 9 p.m. at the following locations:

Monday, March 19, 2012, Hilton Galveston, 5400 Seawall Boulevard, Galveston Island, TX 77551; telephone: (409) 744-5000.

Tuesday, March 20, 2012, Four Points by Sheraton, 940 Beach Boulevard, Biloxi, MS 39530-4138; telephone: (228) 546-3100.

Wednesday, March 21, 2012, Plantation Suites & Conference Center, 1909 Highway 361, Port Aransas, TX 78373; telephone: (361) 749-3866; and Courtyard Marriott, 1000 West I-65 Service Road South, Mobile, AL 36609; telephone: (251) 344-5200.

Thursday, March 22, 2012, Courtyard Marriott, 100 Grand Boulevard, Destin, FL 32550; telephone: (850) 650-7411.

Monday, March 26, 2012, Harvey Government Center, 1200 Truman Avenue, Key West, FL 33040; telephone: (305) 295-5000.

Wednesday, March 28, 2012, Hyatt Place, 2600 Champion Ring Road, Fort Myers, Florida 33905; telephone: (239) 418-1844.

Monday, April 2, 2012, Crowne Plaza New Orleans Airport—2829 Williams Boulevard, Kenner, LA 70062; telephone: (504) 467-5611.

Tuesday, April 3, 2012, Wildlife & Fisheries Department Lab, 195 Ludwig Lane, Grand Isle, LA 70358; telephone: (985) 787-2163.

Copies of the scoping documents can be obtained by calling (813) 348-1630 or by visiting the Council's Web site at www.gulfcouncil.org.

Special Accommodations

These meetings are physically accessible to people with disabilities. Requests for sign language interpretation or other auxiliary aids should be directed to Kathy Pereira at the Council (see ADDRESSES) at least 5 working days prior to the meeting.

Dated: February 28, 2012.
Tracey L. Thompson,
Acting Director, Office of Sustainable Fisheries, National Marine Fisheries Service.

[FR Doc. 2012-5182 Filed 3-2-12; 8:45 am]

BILLING CODE 3510-22-P